DEPARTMENT OF DEFENSE

Office of the Secretary

Meeting of the National Commission on the Structure of the Air Force

AGENCY: Director of Administration and Management, DoD.

ACTION: Notice of Advisory Committee Meeting.

SUMMARY: The Department of Defense is publishing this notice to announce that the following Federal Advisory Committee closed meeting of the National Commission on the Structure of the Air Force (“the Commission”) will take place.

DATES: Dates of Closed Meeting, including Hearing and Commission Discussion: Thursday, September 26, 2013, from 1:00 p.m. to 5:00 p.m.

ADDRESSES: 2521 South Clark Street, Suite 525, Crystal City, VA 22202 and a secure video teleconferencing line.

FOR FURTHER INFORMATION CONTACT: Mrs. Marcia Moore, Designated Federal Officer, National Commission on the Structure of the Air Force, 1950 Defense Pentagon, Room 3A874, Washington, DC 20301-1950. Email: marcia.l.moore12.civ@mail.mil. Desk (703) 545-9113. Facsimile (703) 692-5625.

SUPPLEMENTARY INFORMATION: Purpose of Meeting: The members of the Commission will hear testimony from General Charles H. Jacoby, Jr, the Commander of the U.S. Northern Command, in the form of a question and answer session and then will discuss the information presented at the hearing.

Agenda: The Combatant Commander of the U.S. Northern Command oversees the movement and deployment of forces and materiel necessary to defend the U.S. under the Posse Comitatus Act, a unique Federal law of interest to the Commission. The Commander will discuss classified information regarding mission plans and strategies. Due to the inability of the Commander to respond to the following questions without also disclosing classified information, the meeting is closed to the public. While the Commander may give an opening statement, the Commissioners are primarily interested in his response to the following types of questions addressing the Combatant Commander's requirements:

1. Describe your requirements and assets available from the reserve, Guard, and active duty forces.

2. Are there enough assets to meet the requirements?

3. Under what planning scenarios do you encounter shortfalls in assets?

4. How do you establish requirements [on the Guard/reserve/active duty] for a given mission?

5. What separates a reserve mission from other missions?

6. Are there geographic challenges to missions involving forces from different components?

7. Are there issues with lines of authority and the blending of forces from different components?

8. Do you have comments on how the Commission might best consider the current state of requirements for missions of the Air Force, and how these should best be resourced going forward?

9. Do the Services each have a different approach to readiness requirements, and does this have an impact on force mix considerations?

This meeting is being held under the provisions of the Federal Advisory Committee Act (FACA) of 1972 (5 U.S.C., Appendix, as amended), the Government in the Sunshine Act of 1976 (5 U.S.C. 552b, as amended), and 41 CFR § 102-3.150. Due to difficulties finalizing the meeting agenda for the scheduled meeting of September 26, 2013 of the Commission the requirements of 41 CFR § 102-3.150(a) were not met. Accordingly, the Advisory Committee Management Officer for the DoD, pursuant to 41 CFR § 102-3.150(b), waives the 15-calendar day notification requirement.

Meeting Accessibility: In accordance with section 10(d) of the FACA, 5 U.S.C. 552b, and 41 CFR § 102-3.155, the DoD has determined that the meeting scheduled for September 26, 2013 will be closed to the public. Specifically, the Director of Administration and Management, with the coordination of the DoD FACA Attorney, has determined in writing that this meeting will be closed to the public because it will discuss classified information and matters covered by 5 U.S.C. 552b(c)(1).

Written Comments: Pursuant to 41 CFR §§ 102-3.105(j) and 102-3.140 and section 10(a)(3) of the FACA, the public or interested organizations may submit written comments to the Commission in response to the stated agenda of the open and/or closed meeting or the Commission's mission. The Designated Federal Officer (DFO) will review all submitted written statements before forwarding to the Commission. Written comments should be submitted to Mrs. Marcia Moore, DFO, via facsimile or electronic mail, the preferred modes of submission. Each page of the comment must include the author's name, title or affiliation, address, and daytime phone number. All contact information may be found in the FOR FURTHER INFORMATION CONTACT section.

Background:

The National Commission on the Structure of the Air Force was established by the National Defense Authorization Act for Fiscal Year 2013 (Pub. L. 112-239). The Department of Defense sponsor for the Commission is the Director of Administration and Management, Mr. Michael L. Rhodes. The Commission is tasked to submit a report, containing a comprehensive study and recommendations, by February 1, 2014 to the President of the United States and the Congressional defense committees. The report will contain a detailed statement of the findings and conclusions of the Commission, together with its recommendations for such legislation and administrative actions it may consider appropriate in light of the results of the study. The comprehensive study of the structure of the U.S. Air Force will determine whether, and how, the structure should be modified to best fulfill current and anticipated mission requirements for the U.S. Air Force in a manner consistent with available resources.

The evaluation factors under consideration by the Commission are for a U.S. Air Force structure that—(a) meets current and anticipated requirements of the combatant commands; (b) achieves an appropriate balance between the regular and reserve components of the Air Force, taking advantage of the unique strengths and capabilities of each; (c) ensures that the regular and reserve components of the Air Force have the capacity needed to support current and anticipated homeland defense and disaster assistance missions in the United States; (d) provides for sufficient numbers of regular members of the Air Force to provide a base of trained personnel from which the personnel of the reserve components of the Air Force could be recruited; (e) maintains a peacetime rotation force to support operational tempo goals of 1:2 for regular members of the Air Forces and 1:5 for members of the reserve components of the Air Force; and (f) maximizes and appropriately balances affordability, efficiency, effectiveness, capability, and readiness.

Dated: September 19, 2013.
Aaron Siegel,
Alternate OSD Federal Register Liaison Officer, Department of Defense.

[FR Doc. 2013-23205 Filed 9-23-13; 8:45 am]

BILLING CODE 5001-06-P